EXPORT-IMPORT BANK

Application for Final Commitment for a Long-Term Loan or Financial Guarantee in Excess of $100 Million: AP089472XX

AGENCY: Export-Import Bank of the United States.

ACTION: Notice.

SUMMARY: This Notice is to inform the public the Export-Import Bank of the United States (“EXIM”) has received an application for final commitment for a long-term loan or financial guarantee in excess of $100 million. Comments received within the comment period specified below will be presented to the EXIM Board of Directors prior to final action on this Transaction.

DATES: Comments must be received on or before June 15, 2024 to be assured of consideration before final consideration of the transaction by the Board of Directors of EXIM.

SUPPLEMENTARY INFORMATION:

Reference: AP089472XX.

Purpose and Use:

Brief description of the purpose of the transaction: The project involves the construction of 65 solar mini grids with energy storage facilities in the southern provinces of Huila, Namibe, Cunene and Cuando Cubango, and associated water collection, treatment, and purification systems. The project also entails the expansion of 5 existing electrical grid distribution networks and deployment of solar cabin systems (SCS).

Brief non-proprietary description of the anticipated use of the items being exported: Provide solar-generated electricity and water to underserved rural areas of Angola.

Once completed, these mini grids, electrical grid expansion, SCS, and water supply system will provide electricity and water to approximately 252,000 households that will benefit about 1.5 million people.

Parties:

Principal Supplier: Omatapalo, Inc.

Lender: Private Export Funding Corporation.

Obligor: Ministry of Finance of the Republic of Angola.

Guarantor(s): None.

Description of Items Being Exported: Solar panels, connectors, switches, sensors and other equipment and design and engineering services for the construction of 65 solar mini grids, an associated water collection, treatment and distribution system, and network expansion.

Information on Decision: Information on the final decision for this transaction will be available in the “Summary Minutes of Meetings of Board of Directors” on http://exim.gov/newsandevents/boardmeetings/board/.

Confidential Information: Please note that this notice does not include confidential or proprietary business information; information which, if disclosed, would violate the Trade Secrets Act; or information which would jeopardize jobs in the United States by supplying information that competitors could use to compete with companies in the United States.

Authority: Section 3(c)(10) of the Export-Import Bank Act of 1945, as amended (12 U.S.C. 635a(c)(10)).

Deidre Hodge,
Assistant Corporate Secretary.

[FR Doc. 2024-11328 Filed 5-22-24; 8:45 am]

BILLING CODE 6690-01-P